ENVIRONMENTAL PROTECTION AGENCY

40 CFR Parts 9 and 105

[Docket #W-01-01; FRL-7140-8]

RIN 2040-AD44

Recognition Awards Under the Clean Water Act

AGENCY: Environmental Protection Agency (EPA).

ACTION: Direct final rule.

SUMMARY: EPA is taking direct final action on the rule regarding Recognition Awards Under the Clean Water Act (CWA). Under the authority of CWA section 501(e), the EPA is establishing the framework for the annual CWA Recognition Awards Program formerly known as the Wastewater Management Excellence Awards Program. CWA section 501(e) authorizes the Administrator, on behalf of the U.S. Government, to recognize industrial organizations and political subdivisions of States which demonstrate an outstanding technological achievement or innovative process, method or device in waste treatment and pollution abatement programs. Today's action establishes the framework under which the EPA will implement the Awards Program. The existing awards program recognizes innovative and outstanding achievements, processes, methods or devices in: Operations and Maintenance (O&M) of Publicly Owned Treatment Works (POTW); Biosolids Management (Biosolids); POTW Pretreatment Programs; Municipal and Industrial Storm Water (SW) Management; and Combined Sewer Overflow (CSO) Controls. These wastewater management programs can generally be characterized as waste treatment and/or pollution abatement programs. Individual EPA Regional Administrators (and Regional officials they may designate) also may conduct Regional CWA Recognition Awards Programs according to and consistent with the provisions of this part. EPA headquarters issues annual guidance memoranda to administer each year's awards process and to request nominations for the awards program. EPA may later establish, discontinue, combine or rename categories by notice published in the Federal Register. Awards decisions are not subject to administrative review. Though the Agency has conducted an awards program for many years, this action clearly acknowledges the basis for the program.

DATES: This rule is effective on May 9, 2002 without further notice, unless EPA receives adverse written comment by April 9, 2002. If EPA receives such comments, it will publish a timely withdrawal of the direct final rule in the Federal Register informing the public that the rule will not take effect.

ADDRESSES: Written comments should be mailed to the W-01-01 Direct Final CWA Recognition Awards Comment Clerk, Water Docket, MC-4101, Environmental Protection Agency, 1200 Pennsylvania Avenue, NW., Washington, DC 20460, or hand delivered to the Water Docket in Room EB 57, 401 M Street, SW., Washington, DC. Due to the uncertainty of mail delivery in the Washington, DC area, in order to ensure that your comments are received, we suggest you mail in, and hand deliver or fax your comments to (202) 501-2396. A copy of supporting information for this rulemaking is available for public inspection under docket number W-01-01. For access to the docket materials, call (202) 260-3027, Monday through Friday, except Federal holidays between 9:00 a.m. and 3:30 p.m. (Eastern time) for an appointment. Please indicate that the docket to be accessed is for the February 8, 2002 Federal Register on the Clean Water Act Recognition Awards. As provided in 40 CFR part 2, a reasonable fee may be charged for copying services.

FOR FURTHER INFORMATION CONTACT: Maria E. Campbell, Municipal Support Division, Office of Wastewater Management (MC4204-M), U.S. Environmental Protection Agency, Ariel Rios Building, 1200 Pennsylvania Avenue, NW., Washington, DC 20460, (202) 564-0628, e-mail at campbell.maria@epa.gov.

SUPPLEMENTARY INFORMATION:

Table of Contents

I. Statutory Authority

II. Background

III. Discussion of Direct Final Rulemaking

IV. Administrative Requirements

V. Supporting Documents

I. Statutory Authority

EPA promulgates today's rule under the authority of Clean Water Act sections 501(a) and (e), 33 U.S.C. 1361(a) and (e).

II. Background

CWA sections 501(a) and (e) authorize a program which provides official recognition by the U.S. Government to those industrial organizations and political subdivisions of States which demonstrate an outstanding technological achievement or an innovative process, method, or device in their waste treatment and pollution abatement programs. The authority also provides for EPA's consultation with the appropriate State agencies to develop regulations under which the recognition may be applied for and granted. That consultation has been carried out. Not all States are involved in the CWA awards program. States and EPA may use an application and/or nomination process as appropriate for the program, State or EPA.

Additionally, section 501(e) provides that no applicant will be eligible for an award if it is not in total compliance with all applicable water quality requirements, or otherwise does not have a satisfactory record with respect to environmental quality. The Agency has presented CWA awards for several years. Though EPA's predecessor proposed a regulation in the Federal Register on July 16, 1971 (36 FR 137) (Water Quality Enhancement Awards), that regulation was never finalized. Today's rulemaking would codify the program for these CWA awards by EPA.

The Agency's CWA Recognition Awards Program currently includes awards for the following program categories: Operations and Maintenance (O&M) of Publicly Owned Treatment Works (POTW); Biosolids Management (Biosolids); POTW Pretreatment Programs; Municipal and Industrial Storm Water (SW) Management; and Combined Sewer Overflow (CSO) Controls. See 66 FR 48873 (Sept. 24, 2001). These wastewater management programs can generally be characterized as waste treatment and/or pollution abatement programs. Individual EPA Regional Administrators (and Regional officials they may designate) also may conduct Regional CWA Recognition Awards Programs according to and consistent with the provisions of this part. All of the awards categories recognize outstanding and innovative achievements in waste treatment and/or pollution abatement programs. Further, all award winners are required to have strong compliance records.

—For the O&M awards, the Agency currently has categories for large, medium and small advanced treatment plants; large, medium and small secondary treatment plants; large and small non-discharging treatment plants, and most improved treatment plant. The trainer organization for the most improved treatment plant is also recognized.

—The Biosolids awards currently have categories which recognize municipal and other biosolids operations at large and small operating projects, technology, research achievements, as well as municipal and other public acceptance of biosolids programs.

—Categories for consideration for the Pretreatment awards currently are based on the total number of significant industrial users (SIUs) of the control authority.

—The SW awards currently have two categories that recognize outstanding municipal and industrial storm water pollution control.

—Finally, the CSO awards have one category to recognize outstanding and innovative CSO abatement programs.

EPA later may establish other categories by notice published in the Federal Register. EPA may subsequently discontinue, combine, or rename categories by notice published in the Federal Register.

Not all States participate in the CWA Recognition Awards Program. EPA does however, encourage all authorized National Pollutant Discharge Elimination System (NPDES) agencies, as well as non-authorized States and Tribes, to play a role in the nomination process. National award winners are selected by EPA based upon evaluations of the applications or nominees' information and recommendations of EPA staff and/or representatives of State and Tribal water pollution control agencies. EPA Regional offices may also conduct a Regional awards program according to and consistent with the provisions of this part. Award decisions are not subject to administrative review.

Today's rule announces EPA's interpretation of eligible award winners, specifically, industrial organizations and political subdivisions of States. EPA interprets the term “industrial organizations” to include any company, corporation, association, partnership, firm, university, not-for-profit organization, or wastewater treatment facility, as well as a Federal, State or Tribal wastewater treatment facility, or U.S. military command, to the extent such government and other organizations operate in an “industrial” capacity in the treatment of wastes or abatement of pollution.

You may obtain further information about the current year's CWA Recognition Awards Program from the EPA Regional offices or our Web site (www.epa.gov/owm/intnet.htm). Tribes should contact the relevant EPA Regional office. Information for consideration of an award includes design and operating specifications about wastewater treatment facilities and pollution abatement programs, projects, methods or devices. Nominees for national recognition are provided to EPA headquarters through the EPA Regional offices.

Today's action codifies the intent of the Agency to continue the Wastewater Management Excellence Awards Program as the CWA Recognition Awards Program under the authority of section 501(e) of the CWA. It also amends 40 CFR part 9 to identify information collection, record keeping, and reporting requirements.

III. Discussion of Direct Final Rulemaking

EPA is publishing this rule without prior proposal because we view this as a noncontroversial amendment and anticipate no adverse comment since we are essentially codifying an existing practice of implementing a CWA Recognition Awards Program. However, in the “Proposed Rules” section of today's Federal Register, we are publishing a separate document that will serve as the proposal for the Clean Water Act Recognition Awards Program if adverse comments are filed. This rule will be effective on May 9, 2002 without further notice unless we receive adverse comment by April 9, 2002. If EPA receives adverse comment, we will publish a timely withdrawal in the Federal Register informing the public that the rule will not take effect. We will address all public comments in a subsequent final rule based on the proposed rule. We will not institute a second comment period on this action. Any parties interested in commenting must do so at this time.

IV. Administrative Requirements

A. Executive Order 12866: Regulatory Planning and Reviews

Under Executive Order 12866, (58 FR 51,735 (October 4, 1993)) the Agency must determine whether the regulatory action is “significant” and therefore subject to OMB review and the requirements of the Executive Order. The Order defines “significant regulatory action” as one that is likely to result in a rule that may:

(1) Have an annual effect on the economy of $100 million or more or adversely affect in a material way the economy, a sector or the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.”

It has been determined that this rule is not a “significant regulatory action” under the terms of Executive Order 12866 and is therefore not subject to OMB review.

B. Executive Order 12898: Environmental Justice

Under Executive Order 12898, “Federal Actions to Address Environmental Justice in Minority Populations and Low-Income Populations,” as well as through EPA's National Environmental Justice Advisory Council, EPA has undertaken to incorporate environmental justice into its policies and programs. EPA is committed to addressing environmental justice concerns, and is assuming a leadership role in environmental justice initiatives to enhance environmental quality for all residents of the United States. The Agency's goals are to ensure that no segment of the population, regardless of race, color, national origin or income, bears disproportionately high and adverse human health and environmental effects as a result of EPA's policies, programs, and activities, and all people live in clean and sustainable communities.

No action from this rule will have a disproportionately high and adverse human health and environmental effect on any segment of the population. In addition, this rule does not impose substantial direct compliance costs on those communities. Accordingly, the requirements of Executive Order 12898 do not apply.

C. Regulatory Flexibility Act (RFA), as Amended by the Small Business Regulatory Enforcement Fairness Act of 1996, (SBREFA), 5 U.S.C. 601 et seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business based on the Small Business Administration's size standards; (2) a small governmental jurisdiction that is a government of a city, county, town, school district or special district with a population of less than 50,000; and (3) a small organization that is any not-for-profit enterprise which is independently owned and operated and is not dominant in its field. For purposes of the RFA, States and Tribal governments are not considered small governmental jurisdictions since they are independent sovereigns.

After considering the economic impact of today's final rule on small entities, I certify that this action will not have a significant economic impact on a substantial number of small entities. For purposes of evaluating the economic impact of today's rule on small entities, EPA reflects on the recent history of small entities' participation in the CWA Recognition Awards Program. No unnecessary or disproportionately burdensome demands are imposed on small entities to meet eligibility requirements, and nominations or selection criteria for participation in the voluntary program. The rule merely establishes a framework for an existing Agency practice and does not substantially affect the rights of non-agency parties.

Although this final rule will not have a significant economic impact on a substantial number of small entities, EPA nonetheless has tried to reduce the impact of this rule on small entities. Where EPA Regions may determine that the awards program questionnaire applications may be too lengthy or too complicated for applicants in small communities, a condensed or more simplified version of the questionnaire application may be used. States and EPA may also use an application and/or nomination process as appropriate for the program, State or EPA. Participation in EPA's CWA Awards Program is voluntary.

D. Executive Order 13045: Children's Health

Executive Order 13045: “Protection of Children from Environmental Health Risks and Safety Risks” (62 FR 19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This final rule is not subject to Executive Order 13045 because it is not “economically significant” and it does not concern an environmental health or safety risk that EPA has reason to believe may have a disproportionate effect on children. The rule merely establishes a framework to implement a CWA Recognition Awards Program.

E. Paperwork Reduction Act

The Office of Management and Budget (OMB) has approved the information collection requirements contained in this rule under the provisions of the Paperwork Reduction Act, 44 U.S.C. 3501 et seq. and has assigned OMB control number 2040-0101 for the Questionnaire for the Annual National Clean Water Act Recognition Awards Program (National Wastewater Management Excellence Awards Program). The approval provides information collection for operations and maintenance, biosolids management, storm water management, and combined sewer overflow control awards programs. Also OMB has approved information collection requirements for the pretreatment awards program under OMB control number 2040-0009. The information collected for these programs is planned to be used for the consideration and evaluation of evidence of outstanding technological achievements or innovative processes, methods or devices in waste treatment and pollution abatement programs required under section 501(e) to obtain a CWA Recognition Award. Participation in the CWA Recognition Awards program is voluntary. These ICRs were previously subject to public notice and comment prior to OMB approval. EPA finds that further notice and comment is unnecessary since this rule does not contain any collection of information requirements beyond those already approved. As a result, EPA finds that there is “good cause” under section 553(b)(B) of the Administrative Procedures Act, 5 U.S.C. 553(b)(B), to amend 40 CFR part 9, as part of this rulemaking without prior notice and comment.

The projected cost and hour burden for the information collection activity for the O&M, biosolids, storm water and CSO programs is estimated to be $79,200 per year ($46,600 for the respondents and $33,200 for the States' review time), and 2800 hours (1600 hours for the respondents time and 1200 hours for the States' review time) for the next three years. The proposed frequency of responses is once annually and the estimated number of respondents is 200. The annual public reporting and record keeping burden for this collection of information is estimated to average eight hours per response. The projected cost and hour burden for the information collection activity for the pretreatment awards is estimated to be $16,151.19 per year ($13,819.20 for the respondents burden and $2,331.99 for the States' review time), and 561 hours (480 hours for the respondents time and 81 hours for the States' review time) for the next three years. The proposed frequency of responses is once annually and the estimated number of respondents is 40. The annual public reporting and record keeping burden for this collection of information is estimated to average 12 hours per response. These estimates include the time needed to review instructions; collect, validate, and verify information, complete and review the collection of information; and transmit the information to EPA.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information unless it displays a currently valid OMB control number. The OMB control numbers for EPA's regulations are listed in 40 CFR part 9 and 48 CFR chapter 15. EPA is amending the table in 40 CFR part 9 of currently approved ICR control numbers issued by OMB for various regulations to list the information requirements contained in this final rule.

F. National Technology Transfer and Advancement Act

Section 12(d) of the National Technology Transfer Advancement Act of 1995 (“NTTAA”), Public Law 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This rulemaking does not involve technical standards. Therefore, EPA did not consider the use of any voluntary consensus standards.

G. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective [insert date 90 days after publication in the Federal Register].

H. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This direct final rule does not have federalism implications. It will not have substantial direct effects on the States, on the relationship between the national government and the States, or on the distribution of power and responsibilities among the various levels of government, as specified in Executive Order 13132. This rule is established for those States which voluntarily choose to participate in EPA's awards program. No direct compliance costs are imposed. Thus Executive Order 13132 does not apply to this rule. Although section 6 of Executive Order 13132 does not apply to this rule, CWA section 501(e) requires EPA to consult with the appropriate State water pollution control agencies to establish the regulation. Specifically, hard copies of the draft proposed rule were mailed to representatives of State water pollution control agencies for their review and comments. Only one response was received. The response was in support of the CWA Recognition Awards Program. Local officials may volunteer to participate if a facility is nominated for an award in their State. Not all States participate in EPA's CWA Awards Program and their participation is voluntary.

I. Executive Order 13175 (Consultation and Coordination With Indian Tribal Governments)

Executive Order 13175, entitled “Consultation and Coordination with Indian Tribal Governments” (65 FR 67249, November 6, 2000), requires EPA to develop an accountable process to ensure “meaningful and timely input by Tribal officials in the development of regulatory policies that have Tribal implications.” “Policies that have Tribal implications” is defined in the Executive Order to include regulations that have “substantial direct effects on one or more Indian Tribes, on the relationship between the Federal government and the Indian Tribes, or on the distribution of power and responsibilities between the Federal government and Indian Tribes.”

This final rule does not have Tribal implications. It will not have substantial direct effects on Tribal governments, on the relationship between the Federal government and Indian Tribes, or on the distribution of power and responsibilities between the Federal government and Indian Tribes, as specified in Executive Order 13175. This rule is established for Federally recognized Tribes which voluntarily choose to participate. No direct compliance costs are imposed. Thus, Executive Order 13175 does not apply to this rule. Although section 5 of Executive Order 13175 does not apply to this rule, EPA did consult with EPA Regional program managers regarding Tribal participation of the CWA Recognition Awards Program in developing this rule. Traditionally, Tribes have not participated in the Recognition Awards Program. However, consistent with EPA's Indian policy to work with Tribes on a government to government basis, Tribes will be provided the opportunity to participate in the nomination process in the CWA Recognition Awards Program. Additionally, Tribes that operate facilities or abate pollution are eligible to receive awards as “industrial organizations.” EPA sent copies of the draft proposed rule to Federally recognized Tribes for comment. No responses were received.

J. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's rule contains no Federal mandates (under the regulatory provisions of Title II of the UMRA) for State, local or Tribal governments or the private sector. The rule imposes no enforceable duty on any State, Tribal, or local government or the private sector. Also, the UMRA generally excludes from the definition of “Federal intergovernmental mandate” duties that arise from participation in a voluntary Federal program. Participation in EPA's CWA Awards Program is voluntary. Thus today's rule is not subject to the requirements of sections 202 and 205 of the UMRA. For these same reasons, EPA has also determined that this rule contains no regulatory requirements that might significantly or uniquely affect small governments. Thus, today's rule is not subject to the requirements of section 203 of the UMRA.

K. Executive Order 13211 (Energy Effects)

This rule is not subject to Executive Order 13211, “Actions Concerning Regulations That Significantly Affect Energy Supply, Distribution, or Use” (66 FR 28355 (May 22, 1001)) because it is not a significant regulatory action under Executive Order 12866.

V. Supporting Documents

Key documents included in the administrative record supporting today's rule are: (1) Guidance for the Year 2001 National Wastewater Operations and Maintenance (O&M) Excellence Awards Program; (2) Nominations Guidance for the 2001 Biosolids Exemplary Management Awards Program; (3) Nominations for the 2001 National Pretreatment Program, Combined Sewer Overflow (CSO) Control Program, and Storm Water Management Program Excellence Awards; (4) National Pretreatment Program Information Collection Request; (5) Information Collection Activity: Questionnaire for Operations and Maintenance (O&M), Biosolids Use (Biosolids), Combined Sewer Overflow (CSO), and Storm Water (SW) Awards Nominees Under the Annual National Wastewater Management Excellence Award Program (NWMEAP); (6) EPA's 1994 National Combined Sewer Overflow Controls Policy; (7) Wastewater Awards Program Brochure; (8) Federal Register Notice to announce the 2001 National Wastewater Awards Program; (9) Federal Register Notice to announce EPA's plan to submit a continuing information collection request to OMB; (10) Federal Register Notice to request review and re-approval of information collection activity for the Clean Water Act Recognition Awards; (11) comments received from States on drafts of this regulation; and, (12) Information Collection Activity: Questionnaire for Nominees for the Annual National Clean Water Act Recognition Awards Program (National Wastewater Management Excellence Awards Program).

List of Subjects

40 Part 9

Environmental protection, Reporting and recordkeeping requirements.

40 CFR Part 105

Environmental protection, Administrative practice and procedure, Reporting and recordkeeping requirements, Water pollution control.

Dated: February 1, 2002.
Christine Todd Whitman,
Administrator.

For the reasons set out in the preamble, chapter I, title 40 of the Code of Federal Regulations is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1 the table is amended by adding a new heading and entries in numerical order to read as follows:

§ 9.1 OMB approvals under the Paperwork Reduction Act.

* * * * *

40 CFR Citation | OMB control No.
* * * * *
Recognition Awards Under the Clean Water Act
105.4(c) | 2040-0009, 2040-0101
105.7 | 2040-0009, 2040-0101
105.10 | 2040-0009, 2040-0101
* * * * *

3. Part 105 is added to read as follows:

PART 105—RECOGNITION AWARDS UNDER THE CLEAN WATER ACT

Sec.
General
105.1 Background.
105.2 Definitions.
105.3 Title.
Eligibility Requirements
105.4 What are the requirements for the Awards Program?
105.5 Who is eligible to win an award?
105.6 What are the Awards Program categories for which I may be eligible?
Application and Nomination Process
105.7 How do I apply for an award?
105.8 When can I apply for an award?
105.9 How can I get nominated for an award?
Selection Criteria
105.10 What do I need to be considered for an award?
105.11 Who selects the award winners?
105.12 How is the awards review committee selected?
105.13 How are the awards winners selected?
Awards Recognition
105.14 How are award winners notified?
105.15 How are award winners recognized?
105.16 How are award winners publicized?

Authority: Section 501(a) and (e) of the Clean Water Act (CWA), 33 U.S.C. 1361(a) and (e).

General

§ 105.1 Background.

The Environmental Protection Agency's (EPA) Clean Water Act (CWA) Recognition Awards Program is authorized by CWA section 501(e). The Administrator may provide official recognition to industrial organizations and political subdivisions of States which during the preceding year demonstrated an outstanding technological achievement or an innovative process, method or device in their waste treatment and pollution abatement programs. The wastewater management programs can generally be characterized as waste treatment and/or pollution abatement programs. Individual EPA Regional Administrators (and Regional officials they may designate) also may conduct Regional CWA Recognition Awards Programs according to and consistent with the provisions of this part.

§ 105.2 Definitions.

Applicant means the person authorized to complete the application on behalf of an industrial organization or political subdivision of States.

Application means a completed questionnaire, nomination form, or other documentation submitted to or by the States, EPA Regions or headquarters for consideration of a national CWA Recognition Award.

I means the applicant for an award.

Industrial organization means any company, corporation, association, partnership, firm, university, not-for-profit organization, or wastewater treatment facility, as well as a Federal, State or Tribal government wastewater treatment facility, or U.S. military command to the extent such government and other organizations operate in an “industrial” capacity in the treatment of wastes or abatement of pollution.

Nominee means a candidate recommended by the State or Tribe or EPA for consideration for a CWA Recognition Award.

Political subdivision of State means a municipality, city, town, borough, county, parish, district, association, or other public body (including an intermunicipal agency of two or more of the foregoing entities) created by or pursuant to State law.

State means any of the 50 States, the District of Columbia, the Commonwealth of Puerto Rico, the U.S. Virgin Islands, Guam, American Samoa, and the Commonwealth of Northern Mariana Islands.

State water pollution control agency means the State agency designated by the Governing Authority having responsibility for enforcing State laws relating to the abatement of water pollution.

You means the applicant for an award.

§ 105.3 Title.

The awards are known as the National Clean Water Act Recognition Awards (hereinafter, the Awards Program).

Eligibility Requirements

§ 105.4 What are the requirements for the Awards Program?

(a) EPA will administer the Awards Program, and should establish annual guidance as necessary to administer the Awards Program. EPA will request from the various offices, and States and Tribes as appropriate, nominations for the Awards Program.

(b) Nominees must be in total compliance with all applicable water quality requirements under the CWA in order to be eligible for an award, and otherwise have a satisfactory record with respect to environmental quality.

(c) Nominees must provide written documentation as evidence to support their outstanding technological achievement or innovative process, method or device in their waste treatment and/or pollution abatement programs.

(d) EPA may issue annual guidance memoranda to administer each year's awards programs. For information on the availability of additional guidance, contact the U.S. Environmental Protection Agency, Municipal Assistance Branch, 1200 Pennsylvania Avenue, NW., Mail Code 4204-M, Washington, DC 20460. You may also visit EPA's Web site at www.epa.gov/owm.

§ 105.5 Who is eligible to win an award?

A municipality, city, town, borough, county, parish, district, association, government agency, or other public body, (including an intermunicipal agency of two or more of the foregoing entities) created by or pursuant to State law; a company, corporation, association, partnership, firm, university, not-for-profit organization, or wastewater treatment facility, as well as a Federal, State or Tribal government wastewater treatment facility, or U.S. military command to the extent such government and other organizations operate in an industrial capacity in the treatment of wastes or abatement of pollution may be considered for a recognition award.

§ 105.6 What are the Awards Program categories for which I may be eligible?

EPA will publish from time to time, a notice in the Federal Register announcing the current Awards Program categories. EPA also may subsequently discontinue, combine, or rename categories by notice published in the Federal Register.

Application and Nomination Process

§ 105.7 How do I apply for an award?

You may contact your local EPA Regional office for information on the Awards Program guidance each year, or check the Web site at http://www.epa.gov/owm/intnet.htm. EPA may use an application or nomination process, as appropriate for the program or Region.

§ 105.8 When can I apply for an award?

You can contact your local EPA Regional office for award submission deadline information which may vary for the award categories, or check the Web site at http://www.epa.gov/owm/intnet.htm.

§ 105.9 How can I get nominated for an award?

You may apply to, or ask your State, Tribe or EPA Region to nominate you for an award. Only applications or nominations recommended by EPA Regions are considered for the national award. EPA personnel conduct compliance evaluations prior to presenting a national award.

Selection Criteria

§ 105.10 What do I need to be considered for an award?

Your facility or pollution abatement program must be in total compliance with all applicable water quality requirements, and otherwise have a satisfactory record with respect to environmental quality. Additionally, your facility or pollution abatement program must provide written documentation as evidence of an outstanding technological achievement or an innovative process, method or device demonstrated in the preceding year, which resulted in environmental benefits, cost savings and/or public acceptance.

§ 105.11 Who selects the award winners?

After EPA receives the completed application, the application is evaluated by a review committee. After the review committee completes its evaluation of the programs that have been nominated, they make recommendations for the national awards. EPA then analyzes the results and selects the award winners.

§ 105.12 How is the awards review committee selected?

EPA review committee members are selected by the EPA and in some cases, State or Tribal water pollution control agencies. The number of participants in a nominations review process is based on staff availability, and may be one person.

§ 105.13 How are the award winners selected?

Nominees and applications are recommended by EPA regions. EPA personnel conduct compliance evaluations prior to presenting a national award. EPA selects national award winners based on demonstrated evidence of outstanding and/or innovative wastewater treatment and pollution abatement programs or projects which result in environmental benefits, cost savings and/or public acceptance. Based upon results of review committee evaluations, the Agency selects first place winners for a national award in the appropriate awards categories. A second place winner may or may not be selected. EPA may or may not select an award winner for every awards program category. Award decisions are not subject to administrative review.

Awards Recognition

§ 105.14 How are award winners notified?

EPA notifies national award winners by letter.

§ 105.15 How are award winners recognized?

EPA presents national award winners with a certificate or plaque at an awards presentation ceremony as recognition for an outstanding technological achievement or an innovative process, method or device in wastewater treatment and/or pollution abatement programs. The President of the United States, the Governor of the State, or Tribal leader of the jurisdiction reservation in which the awardee is situated, the Speaker of the House of Representatives and the President pro tempore of the Senate are notified by the Administrator.

§ 105.16 How are award winners publicized?

EPA announces the annual national recognition award winners through notice published in the Federal Register.

[FR Doc. 02-3096 Filed 2-7-02; 8:45 am]

BILLING CODE 6560-50-P